DEPARTMENT OF THE INTERIOR

Bureau of Indian Affairs

25 CFR Part 103

RIN 1076-AD73

Loan Guaranty, Insurance, and Interest Subsidy: Delay of Effective Date

AGENCY: Bureau of Indian Affairs, Interior.

ACTION: Final rule; delay of effective date.

SUMMARY: In accordance with the memorandum of January 20, 2001, from the Assistant to the President and Chief of Staff, entitled “Regulatory Review Plan,” 66 Fed. Reg. 7701 (Jan. 24, 2001), this document temporarily delays for 60 days the effective date of the rule entitled Loan Guaranty, Insurance, and Interest Subsidy, published in the Federal Register on January 17, 2001, at 66 FR 3861. That rule concerns implementation of the Bureau's Loan Guaranty, Insurance, and Interest Subsidy Program to guarantee or insure loans made by private lenders to individual Indians and to organizations of Indians, and to assist qualified borrowers with a portion of their interest payments.

DATES: The effective date of the Loan Guaranty, Insurance, and Interest Subsidy rule, amending 25 CFR part 103, published in the Federal Register on January 17, 2001, at 66 FR 3861, is delayed for 60 days, from February 16, 2001 to a new effective date of April 17, 2001.

FOR FURTHER INFORMATION CONTACT: David B. Johnson, Division of Indian Affairs, Office of the Solicitor, 202-208-3401.

SUPPLEMENTARY INFORMATION: To the extent that 5 U.S.C. section 553 applies to this action, the action is exempt from notice and comment because it constitutes a rule of procedure under 5 U.S.C. section 553(b)(A). Alternatively, the Department's implementation of this action without opportunity for public comment, effective immediately upon publication today in the Federal Register, is based on the good cause exceptions in 5 U.S.C. sections 553(b)(3)(B) and 553(d)(3), in that seeking public comment is impractical, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations.

Dated: January 31, 2001.
Timothy S. Elliott,
Acting Deputy Solicitor.

[FR Doc. 01-2964 Filed 2-2-01; 8:45 am]

BILLING CODE 4310-02-M